DEPARTMENT OF COMMERCE

International Trade Administration

A-122-847

Certain Hard Red Spring Wheat from Canada: Notice of Rescission of Antidumping Duty Administrative Review

AGENCY: Import Administration, International Trade Administration, Department of Commerce.

SUMMARY: Based on the withdrawal of a request for review, the Department of Commerce is rescinding its administrative review of the antidumping duty order on Certain Hard Red Spring Wheat from Canada for the period October 1, 2004, through September 30, 2005.

EFFECTIVE DATE: December 26, 2006.

FOR FURTHER INFORMATION CONTACT: Yasmin Nair, AD/CVD Operations, Office 1, Import Administration, International Trade Administration, U.S. Department of Commerce, 14th Street and Constitution Avenue, NW, Washington DC 20230; telephone (202) 482-3813.

SUPPLEMENTARY INFORMATION:

Background

On October 3, 2005, the Department of Commerce (“the Department”) published in the Federal Register the Antidumping or Countervailing Duty Order, Finding, or Suspended Investigation; Opportunity To Request Administrative Review, 70 FR 57558 (Oct. 3, 2005), for the above-cited segment of this antidumping duty proceeding. On October 31, 2005, the Department received a timely filed request for review from the Canadian Wheat Board. The Canadian Wheat Board also timely filed a request to defer for one year the initiation of the administrative review. The Department received no objections to this request from any party cited in 19 CFR 351.213(c)(1)(ii). On December 1, 2005, the Department published in the Federal Register the Initiation of Antidumping and Countervailing Duty Administrative Reviews and Deferral of Administrative Reviews, 70 FR 72107 (Dec. 1, 2005), which granted the Canadian Wheat Board's request for deferral of administrative review for one year. On November 27, 2006, the Department published in the Federal Register the Initiation of Antidumping and Countervailing Duty Administrative Reviews and Request for Revocation in Part, 71 FR 68535 (Nov. 27, 2006), in which the Department automatically initiated the above-referenced deferred administrative review of Certain Hard Red Spring Wheat from Canada.

On December 6, 2006, we received a timely filed submission from the Canadian Wheat Board withdrawing its request for an administrative review.

Rescission of Antidumping Administrative Review

The Canadian Wheat Board filed its withdrawal request within the deadline established by section 351.213(d)(1) of the Department's regulations. No other parties have requested a review of the Canadian Wheat Board or any other producer or exporter of the subject merchandise. Therefore, we are rescinding the above-cited administrative review in accordance with 19 CFR 351.213(d)(1).

Assessment

The Department will instruct U.S. Customs and Border Protection (“CBP”) to assess antidumping duties on all appropriate entries. For the company for which this review is rescinded, antidumping duties shall be assessed at rates equal to the cash deposit of estimated antidumping duties required at the time of entry, or withdrawal from warehouse, for consumption, in accordance with 19 CFR 351.212(c)(1)(i). The Department will issue appropriate assessment instructions directly to CBP within 41 days of publication of this notice.

Cash Deposit Rates

The Department has revoked the antidumping and countervailing duty orders on Certain Hard Red Spring Wheat from Canada. See Antidumping Duty Investigation and Countervailing Duty Investigation of Hard Red Spring Wheat from Canada: Notice of Panel Decision, Revocation of Countervailing and Antidumping Duty Orders and Termination of Suspension of Liquidation, 71 FR 8275 (Feb. 16, 2006). The effective date of the revocation is January 2, 2006. Therefore, the CBP has been directed to terminate the suspension of liquidation for all shipments of Certain Hard Red Spring Wheat from Canada entered, or withdrawn from warehouse, for consumption on or after January 2, 2006.

Notification to Importers

This notice serves as a reminder to importers of their responsibility under 19 CFR 351.402(f)(2) to file a certificate regarding the reimbursement of antidumping duties prior to

liquidation of the relevant entries during this review period. Failure to comply with this requirement could result in the Secretary's presumption that reimbursement of antidumping duties occurred and the subsequent assessment of doubled antidumping duties.

Notification Regarding APOs

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i) of the Tariff Act of 1930, as amended, and 19 CFR 351.213(d)(4).

Dated: December 19, 2006.
Stephen J. Claeys,
Deputy Assistant Secretary for Import Administration.

[FR Doc. E6-22078 Filed 12-22-06; 8:45 am]

BILLING CODE 3510-DS-S